NATIONAL FOUNDATION OF THE ARTS AND THE HUMANITIES

Sunshine Act; Meeting of the National Museum and Library Services Board

AGENCY: Institute of Museum and Library Services, NFAH.

ACTION: Notice of meeting.

SUMMARY: This notice sets forth the agenda of a forthcoming meeting of the National Museum and Library Services Board. This notice also describes the function of the Board. Notice of this meeting is required under the Sunshine in Government Act.

Time/Date: 9 a.m. to 12:30 p.m. on Thursday, October 7, 2004.

Agenda: Committee Meetings of the Third Meeting of the National Museum and Library Service Board.

9 a.m.-10:30 p.m. Executive Session (Closed to the Public)

11 a.m.-12:30 p.m. Policy and Planning Committee (Open to the Public)

I. Staff Reports

II. Other Business

11 a.m.-12:30 p.m. Partnerships and Government Affairs (Open to the Public)

I. Staff Reports

II. Other Business

Time/Date: 9 a.m. to 12:30 p.m. on Friday, October 8, 2004.

Agenda: Third Meeting of the National Museum and Library Services Board (Open to the Public).

I. Welcome

II. Approval of minutes

III. Program Reports

IV. Committee Reports

V. Program: Role of Museums and Libraries in Serving Diverse Communities

Dr. Robert S. Martin, Director IMLS

Mr. Edwin Rigaud, President, National Underground Railroad and Freedom Center, Cincinnati, OH and member National Museum and Library Services Board

Ms. Alyce Sadongei (Kiowa/Tohono O'Odham), Assistant Curator for Native American Relations, Arizona State Museum, University of Arizona

Ms. Susan Kent, Director and Chief Executive of The Branch Libraries, New York Public Library

VI. Other Business

VII. Adjourn

ADDRESSES: The Hotel Washington, 515 15th Street, NW., Washington, DC, (202) 638-5900.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum and Library Services Board is established under the Museum and Library Services Act, 20 U.S.C. Section 9101 et seq. The Board advises the Director of the Institute on general policies with respect to the duties, powers, and authorities related to Museum and Library Services.

The executive session from 9 a.m. to 10:30 a.m. on Thursday, October 7, 2004 will be closed pursuant to subsections (c)(4) and (c)(6) of section 552b of Title 5, United States Code because the Board will consider information that may disclose: Trade secrets and commercial or financial information obtained from a person and privileged or confidential; and information of a personal nature the disclosure of which would constitute a clearly unwarranted invasion of personal privacy. The meetings from 11 a.m. until 12:30 p.m. on Thursday, October 7, 2004 and the meeting from 9 a.m. to 12:30 p.m. on Friday, October 8, 2004 are open to the public. If you need special accommodations due to a disability, please contact: Institute of Museum and Library Services, 1100 Pennsylvania Avenue, NW., Washington, DC 20506, (202) 606-8536, TDD (202) 606-8636 at least seven (7) days prior to the meeting date.

Dated: September 23, 2004.
Teresa LaHaie,
Administrative Officer, National Foundation on the Arts and the Humanities, Institute of Museum and Library Services.

[FR Doc. 04-21828 Filed 9-24-04; 2:11 pm]

BILLING CODE 7036-01-M